DEPARTMENT OF COMMERCE

Census Bureau

Agency Information Collection Activities; Submission to the Office of Management and Budget (OMB) for Review and Approval; Comment Request; High-Frequency Surveys Program/Household Pulse Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 17, 2023 during a 60-day comment period. This notice allows for an additional 30 days for public comments.

Agency: U.S. Census Bureau, Department of Commerce.

Title: High Frequency Surveys Program/Household Pulse Survey.

OMB Control Number: 0607-XXXX.

Form Number(s): None.

Type of Request: Regular submission, New Information Collection Request.

Number of Respondents: 198,450.

Average Hours per Response: .25 (20 minutes).

Burden Hours: 66,084.

Needs and Uses: The High-Frequency Surveys Program was established as a natural progression from the creation of the Household Pulse Survey. The Census Bureau developed the Household Pulse Survey to produce near real-time data in a time of urgent and acute need to inform federal and state action in response to the Covid-19 pandemic. Changes in the measures over time provided insight into individuals' experiences on social and economic dimensions during the period of the pandemic. It has evolved to include content on other emergent social and economic issues facing households and is designed to supplement the federal statistical system's traditional benchmark data products with a new data source that provides relevant and timely information based on a high-quality sample frame, data integration, and cooperative expertise.

Affected Public: Households.

Frequency: Households will be selected once to participate in a 20-minute survey.

Respondent's Obligation: Voluntary.

Legal Authority: Title 13, United States Code, sections 8(b), 182 and 193.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Under Secretary for Economic Affairs, Commerce Department.

[FR Doc. 2023-23896 Filed 10-27-23; 8:45 am]

BILLING CODE 3510-07-P